DEPARTMENT OF COMMERCE

International Trade Administration

[A-580-855]

Diamond Sawblades and Parts Thereof From the Republic of Korea: Final Results of Antidumping Duty Administrative Review; 2010-2011: Amended Final Results

AGENCY: Import Administration, International Trade Administration, Department of Commerce.

SUMMARY: The Department of Commerce (Department) is amending the final results of the administrative review of the antidumping duty order on diamond sawblades and parts thereof (diamond sawblades) from the Republic of Korea (Korea) to correct certain ministerial errors.¹ In addition, the Department is correcting the assessment language published in the Final Results. The period of review (POR) is November 1, 2010, through October 23, 2011.

¹ See Diamond Sawblades and Parts Thereof From the Republic of Korea: Final Results of Antidumping Duty Administrative Review, 2010-2011, 78 FR 36524 (June 18, 2013) (Final Results).

DATES: Effective Date: August 1, 2013.

FOR FURTHER INFORMATION CONTACT: Sergio Balbontin, AD/CVD Operations, Office 1, Import Administration, International Trade Administration, U.S. Department of Commerce, 14th Street and Constitution Avenue NW., Washington, DC 20230; telephone 202-482-6478.

SUPPLEMENTARY INFORMATION:

Background

On June 13, 2013, the Department disclosed to interested parties its calculations for the Final Results. On June 19, 2013, we received a ministerial error allegation from Ehwa Diamond Industrial Co., Ltd. (Ehwa).

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the Memorandum to Paul Piquado, Assistant Secretary for Import Administration, entitled “Issues and Decision Memorandum for the Final Results in the Second Antidumping Duty Order Administrative Review of Diamond Sawblades and Parts Thereof from the Republic of Korea” dated June 10, 2013.² The written description is dispositive.

² The memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the memorandum can be accessed directly on the Internet at http://www.trade.gov/ia/.

Ministerial Error

Section 751(h) of the Tariff Act of 1930, as amended (Act), and 19 CFR 351.224(f) define a “ministerial error” as an error “in addition, subtraction, or other arithmetic function, clerical error resulting from inaccurate copying, duplication, or the like, and any similar type of unintentional error which the Secretary considers ministerial.” We have analyzed Ehwa's ministerial error comments and have determined, in accordance with section 751(h) of the Act and 19 CFR 351.224(e), that we, in fact, made ministerial errors in our calculations for the Final Results: See Memorandum from Sergio Balbontin to Susan H. Kuhbach, Antidumping Duty Administrative Review: Diamond Sawblades and Parts Thereof from the Republic of Korea; Ministerial Error Allegation for the Final Results,” dated concurrent with this notice, and hereby incorporated by reference.

In accordance with section 751(h) of the Act and 19 CFR 351.224(e), we are amending the Final Results of the administrative review of diamond sawblades from Korea. The revised weighted-average dumping margins are detailed below.

Final Results of the Review

As a result of this amended administrative review, we determine that the following weighted-average dumping margins exist for the period November 1, 2010, through October 23, 2011:

Exporter/Manufacturer | Margin (%)
Ehwa Diamond Industrial Co., Ltd. | 0.00
Hyosung Diamond Industrial Co., Ltd, Western Diamond Tools Inc., and Hyosung D&P Co., Ltd. | 120.90
Shinhan Diamond Industrial Co., Ltd. and SH Trading, Inc. (collectively, Shinhan) | 0.00

Disclosure

We will disclose the calculations performed for these amended final results to interested parties within five days of the date of publication of this notice in accordance with 19 CFR 351.224(b).

Assessment Rates

We are amending the assessment rate language published in the Final Results, which contained erroneous assessment information for companies with a weighted-average margin of zero or de minimis (i.e., 0.50 percent or more).

The Department shall determine, and U.S. Customs and Border Protection (CBP) will assess, antidumping duties on all appropriate entries in accordance with 19 CFR 351.212(b)(1). On October 24, 2011, the U.S. Court of International Trade preliminarily enjoined liquidation of entries that are subject to the final determination.³ Accordingly, the Department will not instruct CBP to assess antidumping duties pending resolution of the associated litigation.

³ See Notice of Final Determination of Sales at Less Than Fair Value and Final Determination of Critical Circumstances: Diamond Sawblades and Parts Thereof from the Republic of Korea, 71 FR 29310 (May 22, 2006).

For any individually examined respondents whose weighted-average dumping margin is above de minimis, we will calculate importer-specific ad valorem duty assessment rates based on the ratio of the total amount of dumping calculated for the importer's examined sales to the total entered value of those same sales in accordance with 19 CFR 351.212(b)(1).

We will instruct CBP to assess antidumping duties on all appropriate entries covered by this review when the importer-specific assessment rate calculated in the final results of this review is above de minimis. Where either the respondent's weighted-average dumping margin is zero or de minimis,⁴ or an importer-specific assessment rate is zero or de minimis, we will instruct CBP to liquidate the appropriate entries without regard to antidumping duties.

⁴ See Antidumping Proceedings: Calculation of the Weighted-Average Dumping Margin and Assessment Rate in Certain Antidumping Duty Proceedings; Final Modification, 77 FR 8101, 8102 (February 14, 2012).

The Department clarified its “automatic assessment” regulation on May 6, 2003.⁵ This clarification will apply to entries of subject merchandise during the POR produced by Ehwa and Shinhan for which these companies did not know that their merchandise was destined for the United States. In such instances, we will instruct CBP to liquidate unreviewed entries at the all-others rate if there is no rate for the intermediate involved in the transaction. For a full discussion of this clarification, see Assessment Policy Notice.

⁵ See Antidumping and Countervailing Duty Proceedings: Assessment of Antidumping Duties, 68 FR 23954 (May 6, 2003) (Assessment Policy Notice).

Cash Deposit Requirements

Effective October 24, 2011, the Department revoked the antidumping duty order on diamond sawblades from Korea, pursuant to a proceeding under section 129 of the Uruguay Round Agreements Act to implement the findings of the World Trade Organization dispute settlement panel in United States—Use of Zeroing in Anti-Dumping Measures Involving Products from Korea (WTIDS402/R) (January 18, 2011).⁶ Consequently, no cash deposits are required on imports of subject merchandise.

⁶ See Notice of Implementation of Determination Under Section 129 of the Uruguay Round Agreements Act and Revocation of the Antidumping Duty Order on Diamond Sawblades and Parts Thereof From the Republic of Korea, 76 FR 66892 (October 28, 2011), and accompanying Issues and Decision Memorandum.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: July 25, 2013.
Paul Piquado,
Assistant Secretary for Import Administration.

[FR Doc. 2013-18525 Filed 7-31-13; 8:45 am]

BILLING CODE 3510-DS-P